POSTAL SERVICE

39 CFR Part 111

Address Facing Standards for Presort Bundles on Pallets

AGENCY: Postal Service.

ACTION: Proposed rule.

SUMMARY: Effective September 14, 2008, the Postal Service is proposing to require mailers to place presort bundles on pallets with the addresses facing up.

DATES: We must receive your comments on or before April 3, 2008.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC, between 9 a.m. and 4 p.m., Monday through Friday. Do not submit comments via fax or e-mail.

FOR FURTHER INFORMATION CONTACT: Kevin Gunther at 202-268-7208.

SUPPLEMENTARY INFORMATION: The Postal Service is in the process of implementing technological changes through the deployment of the Flats Sequencing System (FSS) to automate delivery sequencing for flat-size mail. FSS can sort flat-size mailpieces into delivery sequence, increasing the efficiency of letter carriers by reducing time in sorting mail, and allowing delivery to begin earlier in the day. As we approach deployment of FSS, we are closely examining other technologies that will enhance our efforts to make the most of this investment and achieve the lowest combined costs for handling flat-size mail.

Placement of presort bundles on pallets with the address side up is needed for efficient processing in today's processing environment and, eventually, for the automated preparation and induction for FSS in the future.

USPS® standards in Mailing Standards of the United States Postal Service, Domestic Mail Manual (DMM®) 705.8.5.7 and 705.8.5.9 require mailers preparing presort bundles to ensure that the delivery address information on the top mailpiece in each bundle is visible and readable by the naked eye. Standards in 705.8.5.8 require that bundles counter-stacked on pallets must have all addresses facing up. Logically, these standards should include the requirement for all presort bundles placed on pallets to be arranged with the addresses facing up. Placing bundles on pallets with the addresses facing up aids in validation of the contents and greatly enhances manual distribution of the bundles.

Although exempt from the notice and comment requirements of the Administrative Procedure Act [5 U.S.C. of 553(b), (c)] regarding proposed rulemaking by 39 U.S.C. 410(a), we invite public comment on the following proposed revisions to the DMM, incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633 and 5001.

2. Revise the following sections of Mailing Standards of the United States Postal Service, Domestic Mail Manual (DMM) as follows:

* * * * *

700 Special Standards

* * * * *

705 Advanced Preparation and Special Postage Payment Systems

* * * * *

8.0 Preparing Pallets

* * * * *

8.5 General Preparation

* * * * *

8.5.6 Mail on Pallets

[Revise 8.5.6 to clarify that presort bundles on pallets must be face up by adding new item i as follows:]

* * * * *

i. All presort bundles on pallets must be placed with the addresses facing up.

* * * * *

We will publish an appropriate amendment to 39 CFR part 111 to reflect these changes if the proposal is adopted.

Neva R. Watson,
Attorney, Legislative.

[FR Doc. E8-4078 Filed 3-3-08; 8:45 am]

BILLING CODE 7710-12-P